DEPARTMENT OF COMMERCE

International Trade Administration

(A-588-824)

Certain Corrosion-Resistant Carbon Steel Flat Products From Japan: Preliminary Results of Antidumping Duty Administrative Review, and Preliminary Intent to Rescind, In part

AGENCY: Import Administration, International Trade Administration, Department of Commerce.

SUMMARY: The Department of Commerce (“Department”) is conducting an administrative review of the antidumping duty order on certain corrosion-resistant carbon steel flat products (“CORE”) from Japan. The period of review (“POR”) is August 1, 2004, through July 31, 2005. This review covers imports of CORE from Kawasaki Steel Corporation (“Kawasaki”) and Nippon Steel Corporation (“Nippon Steel”). We have preliminarily found that there were no entries of CORE produced by Kawasaki. Therefore, we preliminarily determine to rescind this review with respect to Kawasaki. Further, we preliminarily determine that sales of subject merchandise sold by Nippon Steel have been made at less than normal value.

If these preliminary results are adopted in our final results of this administrative review, we will instruct U.S. Customs and Border Protection (“CBP”) to assess antidumping duties on entries of Nippon Steel's merchandise during the POR, in accordance with 19 CFR 351.106 and 351.212(b).

We invite interested parties to comment on these preliminary results. Parties who submit arguments in this segment of the proceeding should also submit with each argument: (1) a statement of the issue and (2) a brief summary of the argument. We will issue the final results not later than 120 days from the date of publication of this notice.

EFFECTIVE DATE: May 11, 2006.

FOR FURTHER INFORMATION CONTACT: Christopher Hargett, George McMahon, or James Terpstra, AD/CVD Operations, Office 3, Import Administration, International Trade Administration, U.S. Department of Commerce, 14th Street and Constitution Avenue, NW, Washington, DC 20230; telephone (202) 482-4161, (202) 482-1167, or (202) 482-3965, respectively.

SUPPLEMENTARY INFORMATION:

Background

The Department published an antidumping duty order on CORE from Japan on August 19, 1993. See Antidumping Duty Orders: Certain Corrosion-Resistant Carbon Steel Flat Products from Japan, 58 FR 44163 (Aug. 19, 1993). On August 31, 2005, Nucor Corporation (“Nucor”), a domestic producer of the subject merchandise, requested an administrative review (“AR”) of the antidumping order referenced above with respect to Kawasaki and Nippon Steel. See Letter from Nucor Corporation Requesting Administrative Review. On September 28, 2005, the Department published a notice of initiation of this antidumping duty AR. See Initiation of Antidumping and Countervailing Duty Administrative Reviews and Request for Revocation in Part, 70 FR 56631 (Sept. 28, 2005). On November 19, 2005, the Department issued Sections A, B, C and D questionnaires to JFE Steel and its affiliate, Kawasho Corporation (collectively “JFE Steel”), and to Nippon Steel.

Issuing the questionnaire to JFE Steel was an inadvertent error based on a slight difference between the request for initiation in this and the previous review. In the previous administrative review, Nucor requested an administrative review of “Kawasaki Steel Corp. (and any alleged successor-in-interest including JFE Steel Corp.)” Based on this request, we initiated for Kawasaki /JFE and sent JFE a questionnaire. In the present review, Nucor requested a review solely for “Kawasaki Steel Corporation” and we initiated the review solely for “Kawasaki Steel Corporation.” Because Nucor did not included a review request for “(any alleged successor-in-interest including JFE),” we did not initiate for Kawasaki/JFE, and should not have sent JFE a questionnaire.

JFE Steel responded to the Department's questionnaire on November 28, 2006, requesting that the Department withdraw the questionnaire because no AR had been initiated with respect to JFE Steel. The Department agreed and withdrew the questionnaire. See “Intent to Rescind, in Part” section of this notice.

In response to the questionnaire it received, Nippon Steel sent a letter to the Department stating it would not participate in the AR. See Letter from Nippon Steel Corporation, Dec. 9, 2005. The Department issued a letter Nippon Steel advising them that nonparticipation might result in the application of adverse faces available (“AFA”) pursuant to section 776(a) and (b) of the Tariff Act of 1930, as amended (“the Act”). See Letter to Nippon Steel: Nonparticipation in Administrative Review (A-588-824), Jan. 17, 2006. See “Adverse Facts Available” section of this notice.

Intent to Rescind, in Part

In response to the questionnaire, JFE Steel submitted letters to the Department arguing that because JFE Steel was not named in the Department's Notice of Initiation, it was not required to respond to the November 19, 2005, questionnaire and requesting that the Department withdraw its questionnaire. See Letter from JFE Steel, Nov. 28, 2005; Letter from JFE Steel, Dec. 9, 2005; and Letter from JFE Steel, Jan. 26, 2006. Nucor submitted a letter to the Department agreeing with JFE Steel that Nucor had not requested a review of JFE Steel and that JFE Steel does not need to respond to the questionnaire. Nucor also stated that information recently became available on the internet that demonstrates that Kawasaki ceased to be a producer and exporter of subject merchandise in 2003, and is no longer capable of exporting subject merchandise to the United States. See Letter from Nucor: Response to Comments by JFE Steel Corporation at 2-3, Dec. 19, 2005.

As a result of Nucor's statements, the Department conducted a data query to determine whether there were any shipments of CORE produced by Kawasaki during the POR. The Department found that there were no entries by Kawasaki during the POR. Further, we found that there were no entries under the Kawasaki-specific 10-digit case number. See Memo to the File, Feb. 10, 2006. Additionally, the Department withdrew the questionnaire issued to JFE Steel and Kawasho Corporation. See Letter to JFE Steel, Feb. 10, 2006. Based on our analysis of the shipment data, we are treating Kawasaki as a non-shipper for the purpose of this review. Therefore, in accordance with 19 CFR 351.213(d)(3), and consistent with our practice, we preliminarily determine to rescind this review, in part. See e.g., Stainless Steel Bar from India; Preliminary Results of Antidumping Duty Administrative Review and New Shipper Review, and Partial Rescission of Administrative Review, 65 FR 12209 (March 8, 2000); Persulfates From the People's Republic of China; Preliminary Results of Antidumping Duty Administrative Review and Partial Rescission of Administrative Review, 65 FR 18963 (April 10, 2000).

Scope of Order

The products subject to this order include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 mm, are of a width of 0.5 inch or greater and which measures at least 10 times the thickness, or if of a thickness of 4.75 mm or more, are of a width which exceeds 150 mm and measures at least twice the thickness, as currently classifiable in the HTS under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090.

Included in the order are flat-rolled products of nonrectangular cross-section where such cross-section is achieved subsequent to the rolling process (i.e., products which have been “worked after rolling”) -- for example, products which have been beveled or rounded at the edges.

Excluded from the scope of the order are flat-rolled steel products either plated or coated with tin, lead, chromium, chromium oxides, both tin and lead (“terne plate”), or both chromium and chromium oxides (“tin-free steel”), whether or not painted, varnished or coated with plastics or other nonmetallic substances in addition to the metallic coating. Also excluded from the scope of the order are clad products in straight lengths of 0.1875 inch or more in composite thickness and of a width which exceeds 150 mm and measures at least twice the thickness. Also excluded from the scope of the order are certain clad stainless flat-rolled products, which are three-layered corrosion- resistant carbon steel flat-rolled products less than 4.75 mm in composite thickness that consist of a carbon steel flat-rolled product clad on both sides with stainless steel in a 20%%-60%%-20%% ratio. See Antidumping Duty Orders: Certain Corrosion-Resistant Carbon Steel Flat Products From Japan, 58 FR 44163 (Aug. 19, 1993).

Exclusions due to Changed Circumstances Reviews

The Department has issued the following rulings to date:

Excluded from the scope of this order are imports of certain corrosion-resistant carbon steel flat products meeting the following specifications: widths ranging from 10 mm (0.394 inches) through 100 mm (3.94 inches); thicknesses, including coatings, ranging from 0.11 mm (0.004 inches) through 0.60 mm (0.024 inches); and a coating that is from 0.003 mm (0.00012 inches) through 0.005 mm (0.000196 inches) in thickness and that is comprised of three evenly applied layers, the first layer consisting of 99%% zinc, 0.5%% cobalt, and 0.5%% molybdenum, followed by a layer consisting of chromate, and finally a layer consisting of silicate. See Certain Corrosion-Resistant Carbon Steel Flat Products From Japan: Final Results of Changed Circumstances Antidumping Duty Administrative Review, and Revocation in Part of Antidumping Duty Order, 62 FR 66848 (Dec. 22, 1997).

Also excluded from the scope of this order are imports of subject merchandise meeting all of the following criteria: (1) Widths ranging from 10 mm (0.394 inches) through 100 mm (3.94 inches); (2) thicknesses, including coatings, ranging from 0.11 mm (0.004 inches) through 0.60 mm (0.024 inches); and (3) a coating that is from 0.003 mm (0.00012 inches) through 0.005 mm (0.000196 inches) in thickness and that is comprised of either two evenly applied layers, the first layer consisting of 99%% zinc, 0.5%% cobalt, and 0.5%% molybdenum, followed by a layer consisting of chromate, or three evenly applied layers, the first layer consisting of 99%% zinc, 0.5%% cobalt, and 0.5%% molybdenum followed by a layer consisting of chromate, and finally a layer consisting of silicate. See Certain Corrosion-Resistant Carbon Steel Flat Products From Japan: Final Results of Changed Circumstances Antidumping Duty Administrative Review, and Revocation in Part of Antidumping Duty Order, 64 FR 14862 (Mar. 29, 1999).

Also excluded from the scope of this order are: (1) Carbon steel flat products measuring 1.84 mm in thickness and 43.6 mm or 16.1 mm in width consisting of carbon steel coil (SAE 1008) clad with an aluminum alloy that is balance aluminum, 20%% tin, 1%% copper, 0.3%% silicon, 0.15%% nickel, less than 1%% other materials and meeting the requirements of SAE standard 783 for Bearing and Bushing Alloys; and (2) carbon steel flat products measuring 0.97 mm in thickness and 20 mm in width consisting of carbon steel coil (SAE 1008) with a two-layer lining, the first layer consisting of a copper-lead alloy powder that is balance copper, 9%% to 11%% tin, 9%% to 11%% lead, less than 1%% zinc, less than 1%% other materials and meeting the requirements of SAE standard 792 for Bearing and Bushing Alloys, the second layer consisting of 45%% to 55%% lead, 38%% to 50%% polytetrafluorethylene (“PTFE”), 3%% to 5%% molybdenum disulfide and less than 2%% other materials. See Certain Corrosion-Resistant Carbon Steel Flat Products From Japan: Final Results of Changed Circumstances Antidumping Duty Review, and Revocation in Part of Antidumping Duty Order, 64 FR 57032 (Oct. 22, 1999).

Also excluded from the scope of the order are imports of doctor blades meeting the following specifications: carbon steel coil or strip, plated with nickel phosphorous, having a thickness of 0.1524 mm (0.006 inches), a width between 31.75 mm (1.25 inches) and 50.80 mm (2.00 inches), a core hardness between 580 to 630 HV, a surface hardness between 900--990 HV; the carbon steel coil or strip consists of the following elements identified in percentage by weight: 0.90%% to 1.05%% carbon; 0.15%% to 0.35%% silicon; 0.30%% to 0.50%% manganese; less than or equal to 0.03%% of phosphorous; less than or equal to 0.006%% of sulfur; other elements representing 0.24%%; and the remainder of iron. See Certain Corrosion-Resistant Carbon Steel Flat Products From Japan: Final Results of Changed Circumstances Review, and Revocation in Part of Antidumping Duty Order, 65 FR 53983 (Sept. 6, 2000).

Also excluded from the scope of the order are imports of carbon steel flat products meeting the following specifications: carbon steel flat products measuring 1.64 mm in thickness and 19.5 mm in width consisting of carbon steel coil (SAE 1008) with a lining clad with an aluminum alloy that is balance aluminum; 10 to 15%% tin; 1 to 3%% lead; 0.7 to 1.3%% copper; 1.8 to 3.5%% silicon; 0.1 to 0.7%% chromium; less than 1%% other materials and meeting the requirements of SAE standard 783 for Bearing and Bushing Alloys. See Certain Corrosion-Resistant Carbon Steel Flat Products From Japan: Final Results of Changed Circumstances Review, and Revocation in Part of Antidumping Duty Order, 66 FR 8778 (Feb. 2, 2001).

Also excluded from the scope of the order are carbon steel flat products meeting the following specifications: (1) Carbon steel flat products measuring 0.975 mm in thickness and 8.8 mm in width consisting of carbon steel coil (SAE 1012) clad with a two-layer lining, the first layer consisting of a copper-lead alloy powder that is balance copper, 9%%-11%% tin, 9%%-11%% lead, maximum 1%% other materials and meeting the requirements of SAE standard 792 for Bearing and Bushing Alloys, the second layer consisting of 13%%-17%% carbon, 13%%-17%% aromatic polyester, with a balance (approx. 66%%-74%%) of PTFE; and (2) carbon steel flat products measuring 1.02 mm in thickness and 10.7 mm in width consisting of carbon steel coil (SAE 1008) with a two-layer lining, the first layer consisting of a copper-lead alloy powder that is balance copper, 9%%-11%% tin, 9%%-11%% lead, less than 0.35%% iron, and meeting the requirements of SAE standard 792 for Bearing and Bushing Alloys, the second layer consisting of 45%%-55%% lead, 3%%-5%% molybdenum disulfide, with a balance (approx. 40%%-52%%) of PTFE. See Certain Corrosion-Resistant Carbon Steel Flat Products From Japan: Notice of Final Results of Changed Circumstances Review, and Revocation in Part of Antidumping Duty Order, 66 FR 15075 (Mar. 15, 2001).

Also excluded from this order are carbon steel flat products meeting the following specifications: (1) carbon steel coil or strip, measuring 1.93 mm or 2.75 mm (0.076 inches or 0.108 inches) in thickness, 87.3 mm or 99 mm (3.437 inches or 3.900 inches) in width, with a low carbon steel back comprised of: carbon under 8%%, manganese under 0.4%%, phosphorous under 0.04%%, and sulfur under 0.05%%; clad with aluminum alloy comprised of: 0.7%% copper, 12%% tin, 1.7%% lead, 0.3%% antimony, 2.5%% silicon, 1%% maximum total other (including iron), and remainder aluminum; and (2) carbon steel coil or strip, clad with aluminum, measuring 1.75 mm (0.069 inches) in thickness, 89 mm or 94 mm (3.500 inches or 3.700 inches) in width, with a low carbon steel back comprised of: carbon under 8%%, manganese under 0.4%%, phosphorous under 0.04%%, and sulfur under 0.05%%; clad with aluminum alloy comprised of: 0.7%% copper, 12%% tin, 1.7%% lead, 2.5%% silicon, 0.3%% antimony, 1%% maximum total other (including iron), and remainder aluminum. See Certain Corrosion-Resistant Carbon Steel Flat Products From Japan: Notice of Final Results of Changed Circumstances Review, and Revocation in Part of Antidumping Duty Order, 66 FR 20967 (Apr. 26, 2001).

Also excluded from this order are carbon steel flat products meeting the following specifications: carbon steel coil or strip, measuring a minimum of and including 1.10 mm to a maximum of and including 4.90 mm in overall thickness, a minimum of and including 76.00 mm to a maximum of and including 250.00 mm in overall width, with a low carbon steel back comprised of: carbon under 0.10%%, manganese under 0.40%%, phosphorous under 0.04%%, sulfur under 0.05%%, and silicon under 0.05%%; clad with aluminum alloy comprised of: under 2.51%% copper, under 15.10%% tin, and remainder aluminum as listed on the mill specification sheet. See Certain Corrosion-Resistant Carbon Steel Flat Products From Japan: Notice of Final Results of Changed Circumstances Review, and Revocation in Part of Antidumping Duty Order, 67 FR 7356 (Feb. 19, 2002).

Also excluded from this order are products meeting the following specifications: (1) Diffusion-annealed, non-alloy nickel-plated carbon products, with a substrate of cold-rolled battery grade sheet (“CRBG”) with both sides of the CRBG initially electrolytically plated with pure, unalloyed nickel and subsequently annealed to create a diffusion between the nickel and iron substrate, with the nickel plated coating having a thickness of 0-5 microns per side with one side equaling at least 2 microns; and with the nickel carbon sheet having a thickness of from 0.004” (0.10 mm) to 0.030” (0.762 mm) and conforming to the following chemical specifications (%%): C ≤ 0.08; Mn ≤ 0.45; P ≤ 0.02; S ≤ 0.02; Al ≤ 0.15; and Si ≤ 0.10; and the following physical specifications: Tensile = 65 KSI maximum; Yield = 32 - 55 KSI; Elongation = 18%% minimum (aim 34%%); Hardness = 85 - 150 Vickers; Grain Type = Equiaxed or Pancake; Grain Size (ASTM) = 7-12; Delta r value = aim less than 0.2; Lankford value ≥1.2.; and (2) next generation diffusion-annealed nickel plate meeting the following specifications: (a) Nickel-graphite plated, diffusion-annealed, tin-nickel plated carbon products, with a natural composition mixture of nickel and graphite electrolytically plated to the top side of diffusion-annealed tin-nickel plated carbon steel strip with a cold rolled or tin mill black plate base metal conforming to chemical requirements based on AISI 1006; having both sides of the cold rolled substrate electrolytically plated with natural nickel, with the top side of the nickel plated strip electrolytically plated with tin and then annealed to create a diffusion between the nickel and tin layers in which a nickel-tin alloy is created, and an additional layer of mixture of natural nickel and graphite then electrolytically plated on the top side of the strip of the nickel-tin alloy; having a coating thickness: top side: nickel-graphite, tin-nickel layer ≥ 1.0 micrometers; tin layer only ≥ 0.05 micrometers, nickel-graphite layer only > 0.2 micrometers, and bottom side: nickel layer ≥ 1.0 micrometers; (b) nickel-graphite, diffusion-annealed, nickel plated carbon products, having a natural composition mixture of nickel and graphite electrolytically plated to the top side of diffusion-annealed nickel plated steel strip with a cold rolled or tin mill black plate base metal conforming to chemical requirements based on AISI 1006; with both sides of the cold rolled base metal initially electrolytically plated with natural nickel, and the material then annealed to create a diffusion between the nickel and the iron substrate; with an additional layer of natural nickel-graphite then electrolytically plated on the top side of the strip of the nickel plated steel strip; with the nickel-graphite, nickel plated material sufficiently ductile and adherent to the substrate to permit forming without cracking, flaking, peeling, or any other evidence of separation; having a coating thickness: top side: nickel-graphite, tin-nickel layer ≥ 1.0 micrometers; nickel-graphite layer ≥ 0.5 micrometers; bottom side: nickel layer ≥ 1.0 micrometers; (c) diffusion-annealed nickel-graphite plated products, which are cold-rolled or tin mill black plate base metal conforming to the chemical requirements based on AISI 1006; having the bottom side of the base metal first electrolytically plated with natural nickel, and the top side of the strip then plated with a nickel-graphite composition; with the strip then annealed to create a diffusion of the nickel-graphite and the iron substrate on the bottom side; with the nickel-graphite and nickel plated material sufficiently ductile and adherent to the substrate to permit forming without cracking, flaking, peeling, or any other evidence of separation; having coating thickness: top side: nickel-graphite layer ≥ 1.0 micrometers; bottom side: nickel layer ≥ 1.0 micrometers; (d) nickel-phosphorous plated diffusion-annealed nickel plated carbon product, having a natural composition mixture of nickel and phosphorus electrolytically plated to the top side of a diffusion-annealed nickel plated steel strip with a cold rolled or tin mill black plate base metal conforming to the chemical requirements based on AISI 1006; with both sides of the base metal initially electrolytically plated with natural nickel, and the material then annealed to create a diffusion of the nickel and iron substrate; another layer of the natural nickel-phosphorous then electrolytically plated on the top side of the nickel plated steel strip; with the nickel-phosphorous, nickel plated material sufficiently ductile and adherent to the substrate to permit forming without cracking, flaking, peeling or any other evidence of separation; having a coating thickness: top side: nickel-phosphorous, nickel layer ≥ 1.0 micrometers; nickel-phosphorous layer ≥ 0.1 micrometers; bottom side: nickel layer ≥ 1.0 micrometers; (e) diffusion-annealed, tin-nickel plated products, electrolytically plated with natural nickel to the top side of a diffusion-annealed tin-nickel plated cold rolled or tin mill black plate base metal conforming to the chemical requirements based on AISI 1006; with both sides of the cold rolled strip initially electrolytically plated with natural nickel, with the top side of the nickel plated strip electrolytically plated with tin and then annealed to create a diffusion between the nickel and tin layers in which a nickel-tin alloy is created, and an additional layer of natural nickel then electrolytically plated on the top side of the strip of the nickel-tin alloy; sufficiently ductile and adherent to the substrate to permit forming without cracking, flaking, peeling or any other evidence of separation; having coating thickness: top side: nickel-tin-nickel combination layer ≥ 1.0 micrometers; tin layer only ≥ 0.05 micrometers; bottom side: nickel layer ≥ 1.0 micrometers; and (f) tin mill products for battery containers, tin and nickel plated on a cold rolled or tin mill black plate base metal conforming to chemical requirements based on AISI 1006; having both sides of the cold rolled substrate electrolytically plated with natural nickel; then annealed to create a diffusion of the nickel and iron substrate; then an additional layer of natural tin electrolytically plated on the top side; and again annealed to create a diffusion of the tin and nickel alloys; with the tin-nickel, nickel plated material sufficiently ductile and adherent to the substrate to permit forming without cracking, flaking, peeling or any other evidence of separation; having a coating thickness: top side: nickel-tin layer ≥1 micrometer; tin layer alone ≥0.05 micrometers; bottom side: nickel layer ≥1.0 micrometer. See Certain Corrosion-Resistant Carbon Steel Flat Products From Japan: Notice of Final Results of Changed Circumstances Review, and Revocation in Part of Antidumping Duty Order, 67 FR 47768 (Jul. 22, 2002).

Also excluded from this order are products meeting the following specifications: (1) Widths ranging from 10 mm (0.394 inches) through 100 mm (3.94 inches); (2) thicknesses, including coatings, ranging from 0.11 mm (0.004 inches) through 0.60 mm (0.024 inches); and (3) a coating that is from 0.003 mm (0.00012 inches) through 0.005 mm (0.000196 inches) in thickness and that is comprised of either two evenly applied layers, the first layer consisting of 99%% zinc, 0.5%% cobalt, and 0.5%% molybdenum, followed by a layer consisting of phosphate, or three evenly applied layers, the first layer consisting of 99%% zinc, 0.5%% cobalt, and 0.5%% molybdenum followed by a layer consisting of phosphate, and finally a layer consisting of silicate. See Certain Corrosion-Resistant Carbon Steel Flat Products From Japan: Notice of Final Results of Changed Circumstances Review, and Revocation in Part of Antidumping Duty Order, 67 FR 57208 (Sept. 9, 2002).

Also excluded from this order are products meeting the following specifications: (1) Flat-rolled products (provided for in HTSUS subheading 7210.49.00), other than of high-strength steel, known as “ASE Iron Flash” and either: (A) having a base layer of zinc-based zinc-iron alloy applied by hot-dipping and a surface layer of iron-zinc alloy applied by electrolytic process, the weight of the coating and plating not over 40%% by weight of zinc; or (B) two-layer-coated corrosion-resistant steel with a coating composed of (a) a base coating layer of zinc-based zinc-iron alloy by hot-dip galvanizing process, and (b) a surface coating layer of iron-zinc alloy by electro-galvanizing process, having an effective amount of zinc up to 40%% by weight, and (2) corrosion resistant continuously annealed flat-rolled products, continuous cast, the foregoing with chemical composition (percent by weight): carbon not over 0.06%% by weight, manganese 0.20 or more but not over 0.40, phosphorus not over 0.02, sulfur not over 0.023, silicon not over 0.03, aluminum 0.03 or more but not over 0.08, arsenic not over 0.02, copper not over 0.08 and nitrogen 0.003 or more but not over 0.008; and meeting the characteristics described below: (A) Products with one side coated with a nickel-iron-diffused layer which is less than 1 micrometer in thickness and the other side coated with a two-layer coating composed of a base nickel-iron-diffused coating layer and a surface coating layer of annealed and softened pure nickel, with total coating thickness for both layers of more than 2 micrometers; surface roughness (RA-microns) 0.18 or less; with scanning electron microscope (SEM) not revealing oxides greater than 1 micron; and inclusion groups or clusters shall not exceed 5 microns in length; (B) products having one side coated with a nickel-iron-diffused layer which is less than 1 micrometer in thickness and the other side coated with a four-layer coating composed of a base nickel-iron-diffused coating layer; with an inner middle coating layer of annealed and softened pure nickel, an outer middle surface coating layer of hard nickel and a topmost nickel-phosphorus-plated layer; with combined coating thickness for the four layers of more than 2 micrometers; surface roughness (RA-microns) 0.18 or less; with SEM not revealing oxides greater than 1 micron; and inclusion groups or clusters shall not exceed 5 microns in length; (C) products having one side coated with a nickel-iron-diffused layer which is less than 1 micrometer in thickness and the other side coated with a three-layer coating composed of a base nickel-iron-diffused coating layer, with a middle coating layer of annealed and softened pure nickel and a surface coating layer of hard, luster-agent-added nickel which is not heat-treated; with combined coating thickness for all three layers of more than 2 micrometers; surface roughness (RA-microns) 0.18 or less; with SEM not revealing oxides greater than 1 micron; and inclusion groups or clusters shall not exceed 5 microns in length; or (D) products having one side coated with a nickel-iron-diffused layer which is less than 1 micrometer in thickness and the other side coated with a three-layer coating composed of a base nickel-iron-diffused coating layer, with a middle coating layer of annealed and softened pure nickel and a surface coating layer of hard, pure nickel which is not heat-treated; with combined coating thickness for all three layers of more than 2 micrometers; surface roughness (RA-microns) 0.18 or less; SEM not revealing oxides greater than 1 micron; and inclusion groups or clusters shall not exceed 5 microns in length. See Certain Corrosion-Resistant Carbon Steel Flat Products From Japan: Notice of Final Results of Changed Circumstances Review, and Revocation in Part of Antidumping Duty Order, 68 FR 19970 (Apr. 23, 2003).

Also excluded from the scope of this order is merchandise meeting the following specifications: (1) Base metal: Aluminum Killed, Continuous Cast, Carbon Steel SAE 1008, (2) Chemical Composition: Carbon 0.08%% max. Silicon, 0.03%% max., Manganese 0.40%% max., Phosphorus, 0.020%% max., Sulfur 0.020%% max., (3) Nominal thickness of 0.054 mm, (4) Thickness tolerance minimum 0.0513 mm, maximum 0.0567 mm, (5) Width of 600 mm or greater, and (7) Nickel plate min. 2.45 microns per side. See Notice of Final Results of Antidumping Duty Changed Circumstances Review and Revocation, In Part: Certain Corrosion-Resistant Carbon Steel Flat Products From Japan, 70 FR 2608 (Jan. 14, 2005).

Also excluded from the scope of this order are the following 24 separate corrosion-resistant carbon steel coil products meeting the following specifications:

Product 1 Products described in industry usage as of carbon steel, measuring 1.625 mm to 1.655 mm in thickness and 19.3 mm to 19.7 mm in width, consisting of carbon steel coil (SAE 1010) with a lining clad with an aluminum alloy containing by weight 10%% or more but not more than 15%% of tin, 1%% or more but not more than 3%% of lead, 0.7%% or more but not more than 1.3%% of copper, 1.8%% or more but not more than 3.5%% of silicon, 0.1%% or more but not more than 0.7%% of chromium and less than or equal to 1%% of other materials, and meeting the requirements of SAE standard 788 for Bearing and Bushing Alloys.

Product 2 Products described in industry usage as of carbon steel, measuring 0.955 mm to 0.985 mm in thickness and 8.6 mm to 9.0 mm in width, consisting of carbon steel coil (SAE 1012) clad with a two-layer lining, the first layer consisting of a copper-lead alloy powder that contains by weight 9%% or more but not more than 11%% of tin, 9%% or more but not more than 11%% of lead, less than 0.05%% phosphorus, less than 0.35%% iron and less than or equal to 1%% other materials, and meeting the requirements of SAE standard 797 for Bearing and Bushing Alloys, with the second layer containing by weight 13%% or more but not more than 17%% of carbon, 13%% or more but not more than 17%% of aromatic polyester, and the remainder (approx. 66-74%%) of PTFE.

Product 3 Products described in industry usage as of carbon steel, measuring 1.01 mm to 1.03 mm in thickness and 10.5 mm to 10.9 mm in width, consisting of carbon steel coil (SAE 1010) with a two-layer lining, the first layer consisting of a copper-lead alloy powder that contains by weight 9%% or more but not more than 11%% of tin, 9%% or more but not more than 11%% of lead, less than 1%% zinc and less than or equal to 1%% other materials, and meeting the requirements of SAE standard 797 for Bearing and Bushing Alloys, with the second layer containing by weight 45%% or more but not more than 55%% of lead, 3%% or more but not more than 5%% of molybdenum disulfide, and the remainder made up of PTFE (approximately 38%% to 52%%) and less than 2%% in the aggregate of other materials.

Product 4 Products described in industry usage as of carbon steel, measuring 1.8 mm to 1.88 mm in thickness and 43.4 mm to 43.8 mm or 16.1 mm to 1.65 mm in width, consisting of carbon steel coil (SAE 1010) clad with an aluminum alloy that contains by weight 19%% to 20%% tin, 1%% to 1.2%% copper, less than 0.3%% silicon, 0.15%% nickel and less than 1%% in the aggregate other materials and meeting the requirements of SAE standard 783 for Bearing and Bushing Alloys.

Product 5 Products described in industry usage as of carbon steel, measuring 0.95 mm to 0.98 mm in thickness and 19.95 mm to 20 mm in width, consisting of carbon steel coil (SAE 1010) with a two-layer lining, the first layer consisting of a copper-lead alloy powder that contains by weight 9%% or more but not more than 11%% of tin, 9%% or more but not more than 11%% of lead, less than 1%% of zinc and less than or equal to 1%% in the aggregate of other materials and meeting the requirements of SAE standard 797 for Bearing and Bushing Alloys, with the second layer consisting by weight of 45%% or more but not more than 55%% of lead, 3%% or more but not more than 5%% of molybdenum disulfide and with the remainder made up of PTFE (approximately 38%% to 52%%) and up to 2%% in the aggregate of other materials.

Product 6 Products described in industry usage as of carbon steel, measuring 0.96 mm to 0.98 mm in thickness and 18.75 mm to 18.95 mm in width; base of SAE 1010 steel with a two-layer lining, the first layer consisting of copper-base alloy powder with chemical composition (percent by weight): tin 9 to 11, lead 9 to 11, phosphorus less than 0.05, ferrous group less than 0.35, and other materials less than 1%%; meeting the requirements of SAE standard 797 for bearing and bushing alloys; the second layer consisting of lead 33 to 37%%, aromatic polyester 28 to 32%%, and other materials less than 2%% with a balance of PTFE.

Product 7 Products described in industry usage as of carbon steel, measuring 1.21 mm to 1.25 mm in thickness and 19.4 mm to 19.6 mm in width; base of SAE 1012 steel with lining of copper base alloy with chemical composition (percent by weight): tin 9 to 11, lead 9 to 11, phosphorus less than 0.05, ferrous group less than 0.35 and other materials less than 1%%; meeting the requirements of SAE standard 797 for bearing and bushing alloys.

Product 8 Products described in industry usage as of carbon steel, measuring 0.96 mm to 0.98 mm in thickness and 21.5 mm to 21.7 mm in width; base of SAE 1010 steel with a two-layer lining, the first layer consisting of copper-base alloy powder with chemical composition (percent by weight): tin 9 to 11, lead 9 to 11, phosphorus less than 0.05%%, ferrous group less than 0.35 and other materials less than 1; meeting the requirements of SAE standard 797 for bearing and bushing alloys; the second layer consisting of (percent by weight) lead 33 to 37, aromatic polyester 28 to 32 and other materials less than 2 with a balance of PTFE.

Product 9 Products described in industry usage as of carbon steel, measuring 0.96 mm to 0.99 mm in thickness and 7.65 mm to 7.85 mm in width; base of SAE 1012 steel with a two-layer lining, the first layer consisting of copper-based alloy powder with chemical composition (percent by weight): tin 9 to 11, lead 9 to 11, phosphorus less than 0.05, ferrous group less than 0.35 and other materials less than 1; meeting the requirements of SAE standard 797 for bearing and bushing alloys; the second layer consisting of (percent by weight) carbon 13 to 17 and aromatic polyester 13 to 17, with a balance of PTFE.

Product 10 Products described in industry usage as of carbon steel, measuring 0.955 mm to 0.985 mm in thickness and 13.6 mm to 14 mm in width; base of SAE 1012 steel with a two-layer lining, the first layer consisting of copper-based alloy powder with chemical composition (percent by weight): tin 9 to 11, lead 9 to 11, phosphorus less than 0.05, ferrous group less than 0.35 and other materials less than 1; meeting the requirements of SAE standard 797 for bearing and bushing alloys; the second layer consisting of (percent by weight) carbon 13 to 17, aromatic polyester 13 to 17, with a balance (approximately 66 to 74) of PTFE.

Product 11 Products described in industry usage as of carbon steel, measuring 1.2 mm to 1.24 mm in thickness; 20 mm to 20.4 mm in width; consisting of carbon steel coils (SAE 1012) with a lining of sintered phosphorus bronze alloy with chemical composition (percent by weight): tin 5.5 to 7; phosphorus 0.03 to 0.35; lead less than 1 and other non-copper materials less than 1.

Product 12 Products described in industry usage as of carbon steel, measuring 1.8 mm to 1.88 mm in thickness and 43.3 mm to 43.7 mm in width; base of SAE 1010 steel with a lining of aluminum based alloy with chemical composition (percent by weight: tin 10 to 15, lead 1 to 3, copper 0.7 to 1.3, silicon 1.8 to 3.5, chromium 0.1 to 0.7 and other materials less than 1; meeting the requirements of SAE standard 788 for bearing and bushing alloys.

Product 13 Products described in industry usage as of carbon steel, measuring 1.8 mm to 1.88 mm in thickness and 24.2 mm to 24.6 mm in width; base of SAE 1010 steel with a lining of aluminum alloy with chemical composition (percent by weight): tin 10 to 15, lead 1 to 3, copper 0.7 to 1.3, silicon 1.8 to 3.5, chromium 0.1 to 0.7 and other materials less than 1; meeting the requirements of SAE standard 788 for bearing and bushing alloys.

Product 14 Flat-rolled coated SAE 1009 steel in coils, with thickness not less than 0.915 mm but not over 0.965 mm, width not less than 19.75 mm or more but not over 20.35 mm; with a two-layer coating; the first layer consisting of tin 9 to 11%%, lead 9 to 11%%, zinc less than 1%%, other materials (other than copper) not over 1%% and balance copper; the second layer consisting of lead 45 to 55%%, molybdenum disulfide (MoS2) 3 to 5%%, other materials not over 2%%, balance PTFE.

Product 15 Flat-rolled coated SAE 1009 steel in coils with thickness not less than 0.915 mm or more but not over 0.965 mm; width not less than 18.65 mm or more but not over19.25 mm; with a two-layer coating; the first layer consisting of tin 9 to 11%%, lead 9 to 11%%, zinc less than 1%%, other materials (other than copper) not over 1%%, balance copper; the second layer consisting of lead 33 to 37%%, aromatic polyester 13 to 17%%, other materials other than PTFE less than 2%%, balance PTFE.

Product 16 Flat-rolled coated SAE 1009 steel in coils with thickness not less than 0.920 mm or more but not over 0.970 mm; width not less than 21.35 mm or more but not over 21.95 mm; with a two-layer coating; the first layer consisting of tin 9 to 11%%, lead 9 to 11%%, zinc less than 1%%, other materials (other than copper) not over 1%%, balance copper; the second layer consisting of lead 33 to 37%%, aromatic polyester 13 to 17%%, other materials (other than PTFE) less than 2%%, balance PTFE.

Product 17 Flat-rolled coated SAE 1009 steel in coils with thickness not less than 1.80 mm or more but not over 1.85 mm, width not less than 14.7 mm or more but not over 15.3 mm; with a lining consisting of tin 2.5 to 4.5%%, lead 21.0 to 25.0%%, zinc less than 3%%, iron less than 0.35%%, other materials (other than copper) less than 1%%, balance copper.

Product 18 Flat-rolled coated SAE 1009 steel in coils with thickness 1.59 mm or more but not over 1.64 mm; width 14.5 mm or more but not over 15.1 mm; with a lining consisting of tin 2.3 to 4.2%%, lead 20 to 25%%, iron 1.5 to 4.5%%, phosphorus 0.2 to 2.0%%, other materials (other than copper) less than 1%%, balance copper.

Product 19 Flat-rolled coated SAE 1009 steel in coils with thickness not less than 1.75 mm or more but not over 1.8 mm; width not less than 18.0 mm or more but not over 18.6 mm; with a lining consisting of tin 2.3 to 4.2%%, lead 20 to 25%%, iron 1.5 to 4.5%%, phosphorus 0.2 to 2.0%%, other materials (other than copper) less than 1%%, balance copper.

Product 20 Flat-rolled coated SAE 1009 steel in coils with thickness 1.59 mm or more but not over 1.64 mm; width 13.6 mm or more but not over 14.2 mm; with a lining consisting of tin 2.3 to 4.2%%, lead 20 to 25%%, iron 1.5 to 4.5%%, phosphorus 0.2 to 2.0%%, other materials (other than copper) less than 1%%, with a balance copper.

Product 21 Flat-rolled coated SAE 1009 steel in coils with thickness 1.59 mm or more but not over 1.64 mm; width 11.5 mm or more but not over 12.1 mm; with a lining consisting of tin 2.3 to 4.2%%, lead 20 to 25%%, iron 1.5 to 4.5%%, phosphorus 0.2 to 2.0%%, other materials (other than copper) less than 1%%, balance copper.

Product 22 Flat-rolled coated SAE 1009 steel in coils with thickness 1.59 mm or more but not over 1.64 mm; width 11.2 mm or more but not over 11.8 mm, with a lining consisting of copper 0.7 to 1.3%%, tin 17.5 to 22.5%%, silicon less than 0.3%%, nickel less than 0.15%%, other materials less than 1%%, balance aluminum.

Product 23 Flat-rolled coated SAE 1009 steel in coils with thickness 1.59 mm or more but not over 1.64 mm; width 7.2 mm or more but not over 7.8 mm; with a lining consisting of copper 0.7 to 1.3%%, tin 17.5 to 22.5%%, silicon less than 0.3%%, nickel less than 0.15%%, other materials (other than copper) less than 1%%, balance copper.

Product 24 Flat-rolled coated SAE 1009 steel in coils with thickness 1.72 mm or more but not over 1.77 mm; width 7.7 mm or more but not over 8.3 mm; with a lining consisting of copper 0.7 to 1.3%%, tin 17.5 to 22.5%%, silicon less than 0.3%%, nickel less than 0.15%%, other materials (other than copper) less than 1%%, balance copper. See Notice of Final Results of Antidumping Duty Changed Circumstances Review and Revocation, in Part: Certain Corrosion-Resistant Carbon Steel Flat Products From Japan, 70 FR 5137 (Feb. 1, 2005).

Adverse Facts Available

On December 9, 2005, Nippon Steel responded to the Department's questionnaire with a letter stating they would not participate in the AR. On January 17, 2006, the Department issued a letter to Nippon Steel stating that nonparticipation could result in the application of AFA pursuant to section 776(a) and (b) of the Act. See Letter to Nippon Steel: Nonparticipation in Administrative Review (A-588-824), Jan. 17, 2006. Since its December 9, 2005, letter, Nippon steel has not responded further to the questionnaire nor otherwise participated in this review.

Section 776(a)(2) of the Act provides that the Department shall use facts available (“FA”) when a party withholds information that has been requested by the Department; does not provide the Department with information by the established deadline or in the form and manner requested by the Department; significantly impedes a proceeding; or provides such information but the information cannot be verified. Because of Nippon Steel's refusal to participate in this AR, the Department must make its determination based upon FA.

In addition, section 776(b) of the Act provides that adverse inferences may be used in selecting from among facts otherwise available when a party has failed to cooperate by not acting to the best of its ability to comply with requests for information. See Statement of Administrative Action Accompanying the Uruguay Round Agreements Act, H.R. Rep. No. 103-316, at 870, (1994) (“SAA”), reprinted in 1994 U.S.C.C.A.N. 4040, 4198-4199; Nippon Steel Corp. v. United States, 337 F.3d. 1373, 1380-1383 (Fed. Cir. 2003). Nippon Steel's refusal to participate demonstrates that Nippon Steel has failed to act to the best of its ability, as described in section 776(b) of the Act. Thus, we have determined to apply an adverse inference in the selection of FA.

When applying an adverse inference, section 776(b) of the Act authorizes the Department to use, as AFA, information derived from the petition, a final investigation determination, a previous administrative review, or any other information placed on the record (so-called “secondary information”). No preference among the four alternatives is suggested by section 776(b) of the Act; the only requirement is that secondary information relied upon must be corroborated “to the extent practicable” with information that is “reasonably” at the Department's disposal. In reviews, it is the Department's practice to select, as AFA, the highest rate determined for any respondent in any segment of the proceeding. See, e.g., Notice of Final Results of Antidumping Duty Administrative Review and Final Partial Rescission: Certain Cut-to-Length Carbon Steel Plate from Romania, 71 FR 7008, 7010-11 (Feb. 10, 2006), and accompanying Issues and Decision Memorandum, Issue 1; Freshwater Crawfish Tail Meat from the People's Republic of China; Notice of Final Results of Antidumping Duty Administrative Review, 68 FR 19504, 19506 (Apr. 21, 2003) (citing Freshwater Crawfish Tail Meat from the People's Republic of China; Notice of Final Results of Antidumping Duty Administrative Review, and Final Partial Rescission of Antidumping Duty Administrative Review, 67 FR 19546 (Apr. 22, 2002)). The U.S. Court of International Trade (“CIT”) and the U.S. Court of Appeals for the Federal Circuit (“Federal Circuit”) have consistently upheld this practice. See Ta Chen Stainless Steel Pipe, Inc. v. United States, 298 F.3d 1330,1339 (Fed. Cir. 2002) (citing Rhone Poulenc, Inc. v. United States, 899 F.2d 1185, 1190 (Fed. Cir. 1990)); NSK Ltd. v. United States, 346 F. Supp. 2d 1312, 1335 (CIT 2004) (upholding a 73.55 percent total AFA rate, the highest available dumping margin from a different respondent in a less-than-fair-value (“LTFV”) investigation); Kompass Food Trading Int'l v. United States, 24 CIT 678, 682-84 (2000) (upholding a 51.16 percent total AFA rate, the highest available dumping margin from a different, fully cooperative respondent); Shanghai Taoen International Trading Co., Ltd. v. United States, 360 F. Supp. 2d. 1339, 1347-48 (CIT 2005) (upholding a 223.01percent total AFA rate, the highest available dumping margin from a different respondent in a previous administrative review).

The Department's practice, when selecting an AFA rate from among the possible sources of information, has been to ensure that the margin is sufficiently adverse “as to effectuate the statutory purposes of the adverse facts available rule to induce respondents to provide the Department with complete and accurate information in a timely manner.” See, e.g., Carbon and Certain Alloy Steel Wire Rod from Brazil: Notice of Final Determination of Sales at Less Than Fair Value and Final Negative Critical Circumstances, 67 FR 55792 (Aug. 30, 2002); Static Random Access Memory Semiconductors from Taiwan: Final Determination of Sales at Less than Fair Value, 63 FR 8909 (Feb. 23, 1998). Additionally, the Department's practice has been to assign the highest margin determined for any party in the LTFV investigation or in any administrative review of a specific order to respondents who have failed to cooperate with the Department. See, e.g., Sigma Corp. v. United States, 117 F.3d 1401, 1411 (Fed. Cir. 1997).

In order to ensure that the margin is sufficiently adverse so as to induce Nippon Steel's cooperation, the Department is assigning an AFA rate of 36.41 percent ad valorem, the highest rate determined in this proceeding, and the margin calculated for Nippon in the original LTFV investigation using information provided by Nippon. See Antidumping Duty Orders: Certain Corrosion-Resistant Carbon Steel Flat Products From Japan, 58 FR 44163 (Aug. 19, 1993) (“AD Orders from Japan”).

Section 776(c) of the Act provides that the Department shall, to the extent practicable, corroborate “secondary information” used for FA by reviewing independent sources reasonably at its disposal. Secondary information is information derived from the petition that gave rise to the investigation or review, the final determination concerning the subject merchandise, or any previous review under section 751of the Act, concerning the subject merchandise. See SAA at 870. Thus, information from a prior segment of the proceeding, such as that used here, constitutes secondary information. See, e.g., Anhydrous Sodium Metasilicate from France: Preliminary Results of Antidumping Duty Administrative Review, 68 FR 44283 (July 28, 2003) (“Anhydrous Sodium”) (unchanged in final).

The SAA provides that to “corroborate” means that the Department will satisfy itself that the secondary information to be used has probative value. See SAA at 870. To the extent practicable, the Department will examine the reliability and relevance of the information to be used. Unlike other types of information, such as input costs or selling expenses, there are no independent sources from which the Department can derive calculated dumping margins. The only source for dumping margins is administrative determinations. In an administrative review, if the Department chooses as AFA a calculated dumping margin from a prior segment of the proceeding, it is not necessary to question the reliability of the margin for that period. See, Anhydrous Sodium, 68 FR at 44284. In this case, the Department is using a calculated dumping margin from a prior segment of the proceeding, namely the investigation. Because this margin is being applied to the company for which it was originally calculated, the Department finds that using this rate is appropriate.

In making a determination as to the relevance aspect of corroboration, the Department will consider information reasonably at its disposal regarding whether circumstances exist that would render the chosen margin irrelevant. To do so, the Department conducted research in an attempt to find data to corroborate the secondary information. We were unable to find any useful information. See Memorandum to the File from Christopher Hargett through James Terpstra, “Research for Corroboration for Preliminary Results of the Administrative Review for Corrosion Resistant Steel Flat Products from Japan” (May 3, 2006).

Further, there is no evidence indicating that the margin used as AFA in this review is not appropriate. See Fresh Cut Flowers from Mexico: Final Results of Antidumping Duty Administrative Review, 61 FR 6812 (Feb. 22, 1996) (discarding the highest margin because it was based on another company's uncharacteristic business expenses); D&L Supply Co. v. United States, 113 F.3d 1220, 1224 (Fed. Cir. 1997) (the Department will not use a margin that has been judicially invalidated). Absent any other information, we find the calculated rate from the investigation to be appropriate in this case. Therefore, the requirements of section 776(c) of the Act are satisfied, and we determine that the 36.41 percent margin calculated in the LTFV investigation is appropriate as AFA and are assigning it to Nippon Steel.

The preliminary dumping margin is as follows:

Producer/manufacturer/exporter | Dumping Margin (percent)
Nippon Steel | 36.41

Public Comment

Pursuant to 19 CFR 351.309, interested parties may submit written comments in response to these preliminary results. Case briefs must be submitted within 30 days after the date of publication of this notice, and rebuttal briefs, limited to arguments raised in case briefs, must be submitted no later than five days after the time limit for filing case briefs. Parties who submit argument in this proceeding are requested to submit with the argument: (1) a statement of the issue, and (2) a brief summary of the argument. Case and rebuttal briefs must be served on interested parties in accordance with 19 CFR 351.303(f). Also, pursuant to 19 CFR 351.310, within 30 days of the date of publication of this notice, interested parties may request a public hearing on arguments to be raised in the case and rebuttal briefs. Unless the Secretary specifies otherwise, the hearing, if requested, will be held two days after the date for submission of rebuttal briefs, that is, thirty-seven days after the date of publication of these preliminary results. The Department will publish the final results of this administrative review, including the results of its analysis of issues raised in any case or rebuttal brief or at a hearing not later than 120 days after the date of publication of these preliminary results.

Duty Assessment

Upon publication of the final results of this review, the Department will instruct CBP to assess antidumping duties on all appropriate entries. Because we are applying AFA to all exports of subject merchandise produced or exported by Nippon Steel, we will instruct CBP to assess the final percentage margin against the entered customs values on all applicable entries during the period of review. The Department will issue appropriate assessment instructions directly to CBP within 15 days of publication of the final results of this review.

The Department clarified its “automatic assessment” regulation on May 6, 2003 (68 FR 23954). This clarification will apply to entries of subject merchandise during the POR produced by companies included in these preliminary results of review for which the reviewed companies did not know their merchandise was destined for the United States, as well as any companies for which we are rescinding the review based on claims of no shipments. In such instances, we will instruct CBP to liquidate unreviewed entries at the All-Others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective for all shipments of the subject merchandise from Japan entered, or withdrawn from warehouse, for consumption on or after the date of publication of the final results of this administrative review, as provided by section 751(a)(1) of the Act: (1) The cash deposit rate for the reviewed company will be the rate established in the final results of this review; (2) for previously reviewed or investigated companies not listed above, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will be 36.41 percent, the “All-Others” rate established in the LTFV investigation.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review and notice is in accordance with sections 751(a)(1) and 777(i)(1) of the Act.

Dated: May 3, 2006.
David M. Spooner,
Assistant Secretary for Import Administration.

[FR Doc. E6-7223 Filed 5-10-06; 8:45 am]

BILLING CODE 3510-DS-S